DEPARTMENT OF STATE

[Public Notice: 9817]

Notice of Public Meeting

The Department of State will conduct an open meeting at 9:00am on Wednesday, January 11, 2017, in room 7K15-01 of the Douglas A. Munro Coast Guard Headquarters Building at St. Elizabeth's, 2703 Martin Luther King Jr. Avenue SE., Washington, DC 20593. The primary purpose of the meeting is to prepare for the fourth session of the International Maritime Organization's (IMO) Sub-Committee on Pollution Prevention and Response (PPR 4) to be held at the IMO Headquarters, United Kingdom, on January 16-20, 2017. The agenda items to be considered include:

—Decisions of other IMO bodies

—Safety and pollution hazards of chemicals and preparation of consequential amendments to the IBC Code

—Review of MARPOL Annex II requirements that have an impact on cargo residues and tank washings of high viscosity and persistent floating products

—Code for the transport and handling of limited amounts of hazardous and noxious liquid substances in bulk on offshore support vessels

—Revised guidance on ballast water sampling and analysis

—Review of the guidelines for approval of ballast water management systems

—Production of a manual entitled “Ballast Water Management—How to do it”

—Consideration of the impact on the Arctic of emissions of Black Carbon from international shipping

—Standards for shipboard gasification of waste systems and associated amendments to regulation 16 of MARPOL Annex VI

—Guidelines for the discharge of exhaust gas recirculation bleed-off water

—Improved and new technologies approved for ballast water management systems and reduction of atmospheric pollution

—Updated IMO Dispersant Guidelines

—Updated OPRC Model training courses

—Unified interpretation to provisions of IMO environment-related Conventions

—Use of electronic record books

—Revision of the 2011 SCR Guidelines

Members of the public may attend this meeting up to the seating capacity of the room. Upon request to the meeting coordinator, members of the public may also participate via teleconference. To facilitate the building security process, and to request reasonable accommodation, those who plan to attend should contact the meeting coordinator, Mr. Patrick Keffler, by email at Patrcik.A.Keffler@uscg.mil, by phone at (202) 372-1424, or in writing at 2703 Martin Luther King Jr. Ave. SE., Stop 7509, Washington DC 20593-7509, not later than January 4, 2017. Requests made after January 4, 2017 might not be able to be accommodated. Please note that due to security considerations, two valid, government issued photo identifications must be presented to gain entrance to the Coast Guard Headquarters building. The building is accessible by taxi, public transportation, and privately owned conveyance (upon request). In the case of inclement weather where the Federal Government is closed or delayed, a public meeting may be conducted virtually by calling (202) 475-4000 or 1-855-475-2447, Participant code: 887 809 72. The meeting coordinator will confirm whether the virtual public meeting will be utilized by posting an announcement at: www.uscg.mil/imo. Members of the public can find out whether the Federal Government is delayed or closed by visiting www.opm.gov/status/. Additional information regarding this and other IMO public meetings may be found at: www.uscg.mil/imo.

Dated: December 7, 2016.
Jonathan W. Burby,
Coast Guard Liaison Officer, Office of Ocean and Polar Affairs, Department of State.

[FR Doc. 2016-29942 Filed 12-13-16; 8:45 am]

BILLING CODE 4710-09-P